DEPARTMENT OF THE INTERIOR

Bureau of Land Management

[WO-320-1990-FA-24 1A]

OMB Approval Number 1004-0114; Information Collection Submitted to the Office of Management and Budget Under the Paperwork Reduction Act

The Bureau of Land Management (BLM) has submitted an extension of a currently approved collection to collect the information listed below to the Office of Management and Budget under the provisions of the Paperwork Reduction Act (44 U.S.C. 3501 et seq.). On August 21, 2001, the BLM published a notice in the Federal Register (66 FR 43900) requesting comments on this information collection. The comment period ended on October 22, 2001. The BLM received no comments from the public in response to that notice. You may obtain copies of the collection of information and related forms and explanatory material by contacting the BLM Information Collection Clearance Officer at the telephone number listed below.

The OMB must respond to this request within 60 days but may respond after 30 days. For maximum consideration your comments and suggestions on the requirement should be made within 30 days directly to the Office of Management and Budget, Interior Department Desk Officer (1004-0114), Office of Information and Regulatory Affairs, Washington, DC 20503. Please provide a copy of your comments to the Bureau Information Collection Clearance Officer (WO-630), Bureau of Land Management, Eastern States Office, 7450 Boston Blvd., Springfield, Virginia 22153.

Nature of Comments

We specifically request your comments on the following:

1. Whether the collection of information is necessary for the proper functioning of the BLM, including whether the information will have practical utility;

2. The accuracy of the BLM's estimate of the burden of collecting the information, including the validity of the methodology and assumptions used;

3. The quality, utility and clarity of the information to be collected; and

4. How to minimize the burden of collecting the information on those who are to respond, including the use of appropriate automated, electronic, mechanical, or other forms of information technology.

Title: Recordation of Location Notices and Annual Filings for Mining Claims, Mill Sites, and Tunnel Sites; Payment of Location and Maintenance Fees and Service Charges (43 CFR parts 3730, 3810, 3820, 3830, and 3850).

OMB Approval Number: 1004-0114.

Bureau Form Numbers: 3830-2 and 3830-3.

Abstract: We use the information collected to determine whether or not mining claimants have met the statutory requirements. Mining claimants must record location notices or certificates of mining claims, mill sites, and tunnel sites with BLM within 90 days of their location. Claimants who do not pay the maintenance fee must make an annual filing by December 30. The mining claim or site is forfeited by operation of law if claimants fail to record the mining claim or site or to submit an annual filing when required.

Enactment of Public Law 107-63 of November 5, 2001 (115 Stat. 414) and 30 U.S.C. 28(f)-(k) requires payment of a $100 per claim or site maintenance fee for fiscal years 2002 and 2003. The payment is due at the time of recording and by each September 1st thereafter. The Act also requires a $25 location fee for all new claims or sites located, payable at the time of recording with BLM. Certain “small miners” owning 10 or fewer claims or sites in total may file by each September 1st a waiver from payment of the maintenance fee and record of an annual filing as in the past. The mining claim or site is forfeited by operations of law if claimants fail to pay the fee or file for a waiver by September 1st.

Public Law 107-63 (43 U.S.C. 299[b]) established new procedures for location of mining claims upon the reserved mineral estate of the United States where the mineral estate was reserved under the authority of the Stock Raising Homestead Act of 1916, as amended. The locator must now file a “Note of Intent to Locate Mining Claims” (NOITL) with BLM and serve a copy of the NOITL upon the surface owner of record listed in the local tax records. The locator must wait 30 days after serving the surface owner before entering the lands or locating mining claims upon the lands so noticed. The notice segregates the lands from mining claim location or mineral sale under 43 U.S.C. 1719 on behalf of the locator for 90 days from acceptance by BLM. BLM must post the NOITL on the official land records. The surface owner is not subject to filing a NOITL and may locate mining claims at any time the mineral estate is not segregated.

Frequency: Once for notices and certificates of location, NOITL, and payment of location fees. Once each year for annual filings, payment of maintenance fees or filing of waivers. As needed for recording of amendments to a previously recorded notice or certificate of location or transfer of interest.

Description of Respondents: Respondents may range from individual to multi-national corporations.

Estimated Completion Time: Eight minutes for each document or payment (one hour for a Deferment Petition).

Annual Responses: 236,852.

Application Fee per Response: Service charges are assessed at $10 each for new claims, $5 each for all other mining claims documents, and NOITL and petitions for deferment of assessment work is $25 each.

Annual Burden Hours: 31,585.

Bureau Clearance Officer: Michael Schwartz, (202) 452-5033.

Dated: April 5, 2002.
Michael H. Schwartz,
Bureau of Land Management, Information Collection Clearance Officer.

[FR Doc. 02-23670 Filed 9-17-02; 8:45 am]

BILLING CODE 4310-84-M